DEPARTMENT OF HEALTH AND HUMAN SERVICES

Centers for Disease Control and Prevention

[30Day-22-0728]

Agency Forms Undergoing Paperwork Reduction Act Review

In accordance with the Paperwork Reduction Act of 1995, the Centers for Disease Control and Prevention (CDC) has submitted the information collection request titled “National Notifiable Diseases Surveillance System (NNDSS)” to the Office of Management and Budget (OMB) for review and approval. CDC previously published a “Proposed Data Collection Submitted for Public Comment and Recommendations” notice on February 14, 2022 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Notifiable Diseases Surveillance System (NNDSS) (OMB Control No. 0920-0728, Exp. 3/31/2024)—Revision—Center for Surveillance, Epidemiology and Laboratory Services (CSELS), Centers for Disease Control and Prevention (CDC).

Background and Brief Description

The Public Health Services Act (42 U.S.C. 241) authorizes CDC to disseminate nationally notifiable condition information. The National Notifiable Diseases Surveillance System (NNDSS) is based on data collected at the state, territorial and local levels as a result of legislation and regulations in those jurisdictions that require health care providers, medical laboratories, and other entities to submit health-related data on reportable conditions to public health departments. These reportable conditions, which include infectious and non-infectious diseases, vary by jurisdiction depending upon each jurisdiction's health priorities and needs. Each year, the Council of State and Territorial Epidemiologists (CSTE), supported by CDC, determines which reportable conditions should be designated nationally notifiable or under standardized surveillance.

CDC requests a three-year approval for a Revision for the NNDSS (OMB Control No. 0920-0728, Exp. 3/31/2024). This Revision includes requests for approval to: (1) Receive case notification data for Alpha-gal syndrome (AGS), a new condition under standardized surveillance (CSS); (2) receive Sexual Orientation and Gender Identity (SOGI) and Birth Sex data elements (with United States Core Data for Interoperability (USCDI) value sets) for sexually transmitted diseases (STD) and Hepatitis; (3) receive an extension of three years to continue to receive the current SOGI data elements for STD; and (4) receive new disease-specific data elements for AGS, COVID-19, Cryptosporidiosis, Cyclosporiasis, Hepatitis, and STD (not congenital).

The NNDSS currently facilitates the submission and aggregation of case notification data voluntarily submitted to CDC from 60 jurisdictions: Public health departments in every U.S. state, New York City, Washington DC, five U.S. territories (American Samoa, the Commonwealth of Northern Mariana Islands, Guam, Puerto Rico, and the U.S. Virgin Islands), and three freely associated states (Federated States of Micronesia, the Republic of the Marshall Islands, and the Republic of Palau). This information is shared across jurisdictional boundaries and both surveillance and prevention and control activities are coordinated at regional and national levels.

Over 90% of case notifications are encrypted and submitted to NNDSS electronically from already existing databases by automated electronic messages. When automated transmission is not possible, case notifications are faxed, emailed, or uploaded to a secure network or entered into a secure website. All case notifications that are faxed or emailed are done so in the form of an aggregate weekly or annual report, not individual cases. These different mechanisms used to send case notifications to CDC vary by the jurisdiction and the disease or condition. Jurisdictions remove most personally identifiable information (PII) before data are submitted to CDC, but some data elements (e.g., date of birth, date of diagnosis, county of residence) could potentially be combined with other information to identify individuals. Private information is not disclosed unless otherwise compelled by law. All data are treated in a secure manner consistent with the technical, administrative, and operational controls required by the Federal Information Security Management Act of 2002 (FISMA) and the 2010 National Institute of Standards and Technology (NIST) Recommended Security Controls for Federal Information Systems and Organizations. Weekly tables of nationally notifiable diseases are available through CDC WONDER and data.cdc.gov. Annual summaries of finalized nationally notifiable disease data are published on CDC WONDER and data.cdc.gov and disease-specific data are published by individual CDC programs.

The burden estimates include the number of hours that the public health department uses to process and send case notification data from their jurisdiction to CDC. Specifically, the burden estimates include separate burden hours incurred for automated and non-automated transmissions, separate weekly burden hours incurred for modernizing surveillance systems as part of message mapping guide (MMG) implementation, separate burden hours incurred for annual data reconciliation and submission, and separate one-time burden hours incurred for the addition of new diseases and data elements. The burden estimates for the one-time burden for reporting jurisdictions are for the addition of case notification data for AGS; and disease-specific data elements for AGS, COVID-19, Cryptosporidiosis, Cyclosporiasis, Hepatitis, and STD (not congenital).

CDC requests OMB approval for an estimated 18,294 burden hours, a decrease from the previously approved 18,954 due to fewer disease-specific data elements being added. There is no cost to respondents other than the time to participate.

Estimated Annualized Burden Hours
Type of respondents | Form name | Number of respondents | Number of responses per respondent | Average burden per response (in hours)
States | Weekly (Automated) | 50 | 52 | 20/60
States | Weekly (Non- automated) | 10 | 52 | 2
States | Weekly (MMG Implementation) | 50 | 52 | 4
States | Annual | 50 | 1 | 75
States | One-time Addition of Diseases and Data Elements | 50 | 1 | 1
Territories | Weekly (Automated) | 5 | 52 | 20/60
Territories | Weekly, Quarterly Non-automated) | 5 | 56 | 20/60
Territories | Weekly (MMG Implementation) | 5 | 52 | 4
Territories | Annual | 5 | 1 | 5
Territories | One-time Addition of Diseases and Data Elements | 5 | 1 | 1
Freely Associated States | Weekly (Automated) | 3 | 52 | 20/60
Freely Associated States | Weekly, Quarterly (Non-automated) | 3 | 56 | 20/60
Freely Associated States | Annual | 3 | 1 | 1
Freely Associated States | One-time Addition of Diseases and Data Elements | 3 | 1 | 12
Cities | Weekly (Automated) | 2 | 52 | 20/60
Cities | Weekly (Non-automated) | 2 | 52 | 2
Cities | Weekly (MMG Implementation) | 2 | 52 | 4
Cities | Annual | 2 | 1 | 75
Cities | One-time Addition of Diseases and Data Elements | 2 | 1 | 1

Jeffrey M. Zirger,
Lead, Information Collection Review Office, Office of Scientific Integrity, Office of Science, Centers for Disease Control and Prevention.

[FR Doc. 2022-11769 Filed 6-1-22; 8:45 am]

BILLING CODE 4163-18-P